DEPARTMENT OF HEALTH AND HUMAN SERVICES

Centers for Disease Control and Prevention

Request for Nominations of Candidates To Serve on the Mine Safety and Health Research Advisory Committee (MSHRAC), National Institute for Occupational Safety and Health, Centers for Disease Control and Prevention (CDC), Department of Health and Human Services (HHS)

The CDC is soliciting nominations for possible membership on the Mine Safety and Health Research Advisory Committee (MSHRAC), National Institute for Occupational Safety and Health (NIOSH).

CDC provides subject-matter expertise and assistance for domestic and global surveillance, laboratory, occupational health and epidemiology functions, and health threats including anthrax, smallpox, influenza and other infectious diseases, food-borne illness, and radiation, among others.

The MSHRAC consists of 13 experts in fields related to mining safety and health. The members are selected by the Secretary, HHS. The committee advises the NIOSH Director on mining safety and health research and prevention programs. The committee also provides advice on standards of scientific excellence, current needs in the field of mining safety and health, and the applicability and dissemination of research findings. This advice may take the form of reports or verbal communications to the NIOSH Director during MSHRAC meetings.

Nominations are being sought for individuals who have expertise and qualifications necessary to contribute to the accomplishment of the committee's mission.

Nominees will be selected based on expertise in the field of mining safety and health, such as mining engineering, industrial hygiene, occupational safety and health engineering, chemistry, safety and health education, ergonomics, epidemiology, statistics, and psychology.

Federal employees will not be considered for membership. Members may be invited to serve for terms of up to four years. The U.S. Department of Health and Human Services policy stipulates that committee membership shall be balanced in terms of professional training and background, points of view represented, and the committee's function. In addition to a broad range of expertise, consideration is given to a broad representation of geographic areas within the U.S., with diverse representation of both genders, ethnic and racial minorities, and persons with disabilities. Nominees must be U.S. citizens, and cannot be full-time employees of the U.S. Government.

Candidates should submit the following items:

• Current curriculum vitae, including complete contact information (name, affiliation, mailing address, telephone number, email address)

• A letter of recommendation stating the qualifications of the candidate.

Nomination materials must be postmarked by January 31, 2014, and sent to: Jeffery L. Kohler, Ph.D., Executive Secretary, MSHRAC, NIOSH, CDC, 626 Cochrans Mill Road, P.O. Box 18070, Pittsburgh, Pennsylvania 15236, telephone (412) 386-5301.

The Director, Management Analysis and Services Office, has been delegated the authority to sign Federal Register notices pertaining to announcements of meetings and other committee management activities for both the Centers for Disease Control and Prevention, and the Agency for Toxic Substances and Disease Registry.

Elaine L. Baker,
Director, Management Analysis and Services Office, Centers for Disease Control and Prevention.

[FR Doc. 2013-29747 Filed 12-12-13; 8:45 am]

BILLING CODE 4163-18-P